DEPARTMENT OF COMMERCE

National Oceanic and Atmospheric Administration

[I.D. 091401A]

Western Pacific Fishery Management Council; Public Meeting

AGENCY: National Marine Fisheries Service (NMFS), National Oceanic and Atmospheric Administration (NOAA), Commerce.

ACTION: Notice of public meetings.

SUMMARY: The 78th meeting of the Western Pacific Fishery Management Council’s (Council) Scientific and Statistical Committee (SSC) will convene October 9 through 11, 2001, in Honolulu, Hawaii.

DATES: The SSC meeting will be held from 9 a.m. to 5 p.m. on October 9 and from 8:30 a.m. to 5 p.m. on October 10-11, 2001.

ADDRESSES: The 78th SSC meeting will be held at the Council office conference room, 1164 Bishop St., Suite 1400, Honolulu, Hawaii; telephone: 808-522-8220.

FOR FURTHER INFORMATION CONTACT: Kitty M. Simonds, Executive Director; telephone 808-522-8220.

SUPPLEMENTARY INFORMATION: The SSC will discuss and may make recommendations to the Council on the agenda items below. The order in which agenda items will be addressed can change.

Agenda A (1st hearing)

Tuesday, October 9, 2001, 9 a.m.

A. Crustaceans fisheries - Northwestern Hawaiian Islands (NWHI) lobsters

1. NMFS tagging research 2000 and 2001

2. 1999 Annual Report

3. Public comment (Hearing if Draft Environmental Impact Statement is out for comment)

B. Bottomfish fisheries

1. NWHI framework action: removal of NWHI landing requirements

2. Marine Protected Area (MPA) effects on calculating Spawning potential ratios (SPR), catch per unit effort (CPUE), etc.

3. Status of Hawaiian monk seal biological opinion and litigation

4. Status of bottomfish observer program and data collection

5. Status of Digital Video Observer Pilot project

6. Public comment (Hearing if Draft Environmental Impact Statement is out for comment)

C. Hawaiian monk seals

1. Quarterly report on activities of the Marine Mammal Research Program

2. Report on NWHI shark activities

a. Great white shark

b. Culling

Wednesday, October 10, 2001, 8:30 a.m.

D. Pelagic fisheries

1. 2nd quarter 2001 Hawaii and American Samoa longline reports

2. Annual Report

3. Distribution and abundance of billfish larvae off Kona

4. American Samoa

a. Longline fishery expansion in 2001 and management needs (limited entry program)

b. Pilot Observer program

5. Turtle conservation and management

a. Litigation

b. Status of turtle recovery plans

c. Workshop

d. Turtle research (progress since May 2001)

e. Tagging

1. Validating tag performance

2. Other (modeling, population assessments, etc.)

3. Status of Section 10 fishing experiment

4. FMP regulatory amendment for turtle mitigation

5. Seabird conservation and management

a. Litigation

b. U.S. Fish and Wildlife Service STAL Handling Guidelines

c. 2nd International Fishers Forum

d. Underwater setting chute deployment in Hawaii longline fishery

e. Exemption of basket gear from mitigation regulations

f. Marine Mammal Protection Act List Of Fisheries

6. Impacts of closure of Suisan auction in Hilo

7. Report on the 2001 Protected Species Workshops

8. International meetings (14th Standing Committee on Tuna and Billfish, 3rd Billfish Symposium)

F. Precious Corals Fisheries

1. Precious coral framework action

2. Public hearing on framework action

The Council proposes to restructure the management regime for the exploratory area to be based on current knowledge of the resource and industry practices. This will permit increased landings as well as reduce pressure on the known beds. The proposed measure removes the 1,000 kg annual quota, and incorporates site-specific restrictions which will allow harvest of a sustainable percentage based on the size of the resource in a given area. Compliance will be monitored through mandatory harvesting videotapes.

Thursday, October 11, 2001, 8:30 a.m.

G. Ecosystem and Habitat

1. NOAA habitat mapping initiatives

2. Proposed invasive species mitigation measures

3. Council MPAs policy development

H. Summary of recommendations to Council

I. Schedule for 2002 SSC meetings

Special Accommodations

These meetings are physically accessible to people with disabilities. Requests for sign language interpretation or other auxiliary aids should be directed to Kitty M. Simonds, 808-522-8220 (voice) or 808-522-8226 (fax), at least 5 days prior to the meeting date.

Dated: September 17, 2001.
Bruce Morehead,
Acting Director, Office of Sustainable Fisheries, National Marine Fisheries Service.

[FR Doc. 01-23797 Filed 9-21-01; 8:45 am]

BILLING CODE 3510-22-S